DEPARTMENT OF ENERGY

Federal Energy Regulatory Commission

[Docket No. OR07-5-000, Docket No. OR07-7-000, Docket No. OR07-18-000, Docket No. OR07-19-000, Docket No. OR07-22-000]

ExxonMobil Oil Corporation v. Calnev Pipe Line LLC; Tesoro Refining and Marketing Company v. Calnev Pipe Line LLC; America West Airlines, Inc. and U.S. Airways, Inc., Chevron Products Company, Continental Airlines, Inc., Northwest Airlines, Inc., Southwest Airlines Co., and Valero Marketing and Supply Company v. Calnev Pipe Line LLC; ConocoPhillips Company v. Calnev Pipe Line LLC; BP West Coast Products LLC v. Calnev Pipe Line LLC; Notice Permitting Futher Answers

March 6, 2008.

On March 3, 2008, Calnev Pipe Line LLC (Calnev) filed a combined answer to the complaints listed in the caption of this order. Given the novelty of some of the issues, notice is hereby given that the complainants may file answers to Calnev's March 3, 2008 filing no later than March 18, 2008. Any factual assertions in those answers shall be supported by sworn affidavits.

Kimberly D. Bose,
Secretary.

[FR Doc. E8-5030 Filed 3-12-08; 8:45 am]

BILLING CODE 6717-01-P